DEPARTMENT OF COMMERCE

Bureau of Economic Analysis

Agency Information Collection Activities; Submission to the Office of Management and Budget (OMB) for Review and Approval; Comment Request; Direct Investment Surveys: BE-11, Annual Survey of U.S. Direct Investment Abroad

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 06/16/2021 during a 60-day comment period. This notice allows for an additional 30 days for public comments.

Agency: Bureau of Economic Analysis (BEA), Commerce.

Title: Annual Survey of U.S. Direct Investment Abroad.

OMB Control Number: 0608-0053.

Form Number: BE-11.

Type of Request: Regular submission, reinstatement without change

Number of Respondents: 3,500 respondents (U.S. parents). A complete response includes a BE-11 A form for the U.S. parent's domestic operation and one or more BE-11 B, C, or D forms for its foreign affiliates that meet the BE-11 survey requirements. BEA estimates that U.S. parents will submit 3,500 A forms, 24,000 B forms, 1,900 C forms, 100 D forms, and 500 Claim for Exemption forms.

Average Hours per Response: 90.5 hours per respondent (316,900 hours/3,500 U.S. parents) is the average but may vary considerably among respondents because of differences in company structure, complexity, and the number of foreign affiliates each U.S. parent must report.

Burden Hours: 316,900 hours. Total annual burden is calculated by multiplying the estimated number of submissions of each form by the average hourly burden per form, which is 7 hours for the A form, 12 hours for the B form, 2 hours for the C form, 1 hour for the D form, and 1 hour for the Claim for Exemption form.

Needs and Uses: The Annual Survey of U.S. Direct Investment Abroad (BE-11) obtains sample data on the financial structure and operations of U.S. parents and their foreign affiliates. The data are needed to provide reliable, useful, and timely measures of U.S. direct investment abroad to assess its impact on the U.S. and foreign economies. The sample data are used to derive universe estimates in nonbenchmark years from similar data reported in the BE-10, Benchmark Survey of U.S. Direct Investment Abroad, which is conducted every five years. The data collected include balance sheets; income statements; property, plant, and equipment; employment and employee compensation; merchandise trade; sales of goods and services; taxes; and research and development activity.

Affected Public: Businesses or other for-profit organizations.

Frequency: Annual.

Respondent's Obligation: Mandatory.

Legal Authority: International Investment and Trade in Services Survey Act (Pub. L. 94-472, 22 U.S.C. 3101-3108, as amended).

This information collection request may be viewed at www.reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0608-0053.

Sheleen Dumas,
Department PRA Clearance Officer, Office of the Chief Information Officer, Commerce Department.

[FR Doc. 2021-18628 Filed 8-27-21; 8:45 am]

BILLING CODE 3510-06-P